ENVIRONMENTAL PROTECTION AGENCY

40 CFR Part 52

[EPA-R09-OAR-2021-0371; FRL-8746-01-R9]

Air Plan Approval; California; San Diego Air Pollution Control District

AGENCY: Environmental Protection Agency (EPA).

ACTION: Proposed rule.

SUMMARY: The Environmental Protection Agency (EPA) is proposing to approve revisions to the San Diego Air Pollution Control District (SDAPCD) portion of the California State Implementation Plan (SIP). These revisions concern emissions of volatile organic compounds (VOCs) from cold solvent cleaning and stripping operations and from vapor degreasing operations. We are proposing to approve changes to SIP-approved local rules to regulate these emission sources under the Clean Air Act (CAA or the Act). We are taking comments on this proposal and plan to follow with a final action.

DATES: Comments must be received on or before September 9, 2021.

ADDRESSES: Submit your comments, identified by Docket ID No. EPA-R09-OAR-2021-0371 at https://www.regulations.gov. For comments submitted at Regulations.gov, follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact the person identified in the FOR FURTHER INFORMATION CONTACT section. For the full EPA public comment policy, information about CBI or multimedia submissions, and general guidance on making effective comments, please visit https://www.epa.gov/dockets/commenting-epa-dockets. If you need assistance in a language other than English or if you are a person with disabilities who needs a reasonable accommodation at no cost to you, please contact the person identified in the FOR FURTHER INFORMATION CONTACT section.

FOR FURTHER INFORMATION CONTACT: Robert Schwartz, EPA Region IX, 75 Hawthorne St., San Francisco, CA 94105. By phone: (415) 972-3286 or by email at schwartz.robert@epa.gov.

SUPPLEMENTARY INFORMATION: Throughout this document, “we,” “us” and “our” refer to the EPA.

Table of Contents

I. The State's Submittal

A. What rules did the State submit?

B. Are there other versions of these rules?

C. What is the purpose of the submitted rule revisions?

II. The EPA's Evaluation and Action

A. How is the EPA evaluating the rules?

B. Do the rules meet the evaluation criteria?

C. The EPA's recommendations to further improve the rules

D. Public comment and proposed action

III. Incorporation by Reference

IV. Statutory and Executive Order Reviews

I. The State's Submittal

A. What rules did the State submit?

Table 1 lists the rules addressed by this proposal with the dates that they were adopted by the local air agency and submitted by the California Air Resources Board (CARB).

Table 1—Submitted Rules
Local agency | Rule # | Rule title | Revised and adopted | Submitted
SDAPCD | 67.6.1 | Cold Solvent Cleaning and Stripping Operations | 02/10/2021 | 04/20/2021
SDAPCD | 67.6.2 | Vapor Degreasing Operations | 02/10/2021 | 04/20/2021

On June 7, 2021, the EPA determined that the submittal for SDAPCD Rule 67.6.1 and Rule 67.6.2 met the completeness criteria in 40 CFR part 51 Appendix V, which must be met before formal EPA review.

B. Are there other versions of these rules?

We approved earlier versions of Rule 67.6.1 and Rule 67.6.2 into the SIP on October 13, 2009.¹ The SDAPCD adopted revisions to the SIP-approved versions on February 10, 2021 and CARB submitted them to us on April 20, 2021. If we take final action to approve the February 10, 2021 versions of Rule 67.6.1 and Rule 67.6.2, these versions will replace the previously approved versions of these rules in the SIP.

¹ 74 FR 52427.

C. What is the purpose of the submitted rule revisions?

Emissions of VOCs contribute to the production of ground-level ozone and smog, which harm human health and the environment. Section 110(a) of the CAA requires states to submit regulations that control VOC emissions. The District revised Rule 67.6.1 to include more stringent solvent cleaning VOC limits, increase the stringency of a qualifying VOC limit for an exemption to the rule, and remove an inappropriate exemption for sources covered by a National Emission Standards for Hazardous Air Pollutants (NESHAP) standard. Rule 67.6.2 was revised to increase the stringency of a qualifying VOC limit for an exemption to the rule and to add several housekeeping updates.

Additionally, on December 3, 2020 (85 FR 77996), the EPA partially approved and partially disapproved SDAPCD's reasonably available control technology (RACT) demonstrations for the 2008 8-hr ozone national ambient air quality standards (NAAQS) (also referred to as the “2016 RACT SIP”). These deficiencies were identified in our August 10, 2020 proposed partial approval and partial disapproval.² For Rule 67.6.1, the deficiency identified was an inappropriate exemption for sources covered by the NESHAP standard. Revisions to Rule 67.6.1 were submitted on April 20, 2021, in part to correct this deficiency. The EPA's technical support document (TSD) has more information about these rules.

² 85 FR 48127.

II. The EPA's Evaluation and Action

A. How is the EPA evaluating the rules?

Rules in the SIP must be enforceable (see CAA section 110(a)(2)), must not interfere with applicable requirements concerning attainment and reasonable further progress or other CAA requirements (see CAA section 110(l)), and must not modify certain SIP control requirements in nonattainment areas without ensuring equivalent or greater emissions reductions (see CAA section 193).

Generally, SIP rules must require RACT for each category of sources covered by a Control Techniques Guidelines (CTG) document as well as each major source of VOCs in ozone nonattainment areas classified as Moderate or above (see CAA section 182(b)(2)). The SDAPCD regulates an ozone nonattainment area classified as a Severe nonattainment area for the 2008 and 2015 8-hour ozone NAAQS (40 CFR 81.305).³ Therefore, these rules must implement RACT. In addition, we evaluated the rule to ensure it cured the deficiencies we identified in the partial disapproval of the SDAPCD's 2016 RACT SIP ⁴ with respect to the requirement to establish RACT-level controls for sources covered by the “Control Techniques Guidelines for Industrial Cleaning Solvents.”

³ 86 FR 29522 (June 2, 2021).

⁴ 85 FR 77996 (December 3, 2020) and 85 FR 48127 (August 10, 2020).

Guidance and policy documents that we used to evaluate enforceability, revision/relaxation and rule stringency requirements for the applicable criteria pollutants include the following:

1. “State Implementation Plans; General Preamble for the Implementation of Title I of the Clean Air Act Amendments of 1990,” 57 FR 13498 (April 16, 1992); 57 FR 18070 (April 28, 1992).

2. “Issues Relating to VOC Regulation Cutpoints, Deficiencies, and Deviations,” EPA, May 25, 1988 (the Bluebook, revised January 11, 1990).

3. “Guidance Document for Correcting Common VOC & Other Rule Deficiencies,” EPA Region 9, August 21, 2001 (the Little Bluebook).

4. “Control of Volatile Organic Emissions from Solvent Metal Cleaning,” EPA-450/2-77-022, November 1977.

5. “Control Techniques Guidelines for Industrial Cleaning Solvents,” EPA-453/R-06-001, September 2006.

B. Do the rules meet the evaluation criteria?

These rules meet CAA requirements and are consistent with relevant guidance regarding enforceability, RACT, and SIP revisions. The revisions to Rule 67.6.1 cure the deficiency identified in our partial disapproval of SDAPCD's 2016 RACT SIP with respect to the requirement to establish RACT-level controls for sources covered by the Industrial Cleaning Solvents CTG. Additionally, the District revised Rule 67.6.1 to include more stringent solvent cleaning VOC limits and to increase the stringency of a qualifying VOC limit for an exemption to the rule. The District revised Rule 67.6.2 to increase the stringency of a qualifying VOC limit for an exemption to the rule. The TSD has more information on our evaluation.

C. The EPA Recommendations to Further Improve the Rules

We recommend that the District add a reference to SDAPCD Rule 67.17 that contains provisions for this source category supplementary to Rule 67.6.1 and Rule 67.6.2. The TSD includes additional recommendations for the next time the local agency modifies the rules.

D. Public Comment and Proposed Action

As authorized in section 110(k)(3) of the Act, the EPA proposes to fully approve the submitted rules because they fulfill all relevant requirements. We will accept comments from the public on this proposal until September 9, 2021. If we take final action to approve the submitted rules, our final action will incorporate these rules into the federally enforceable SIP. In addition, if we finalize our approval of Rule 67.6.1, it will address our obligation to promulgate a Federal Implementation Plan for the Industrial Cleaning Solvent CTG source category associated with our partial disapproval of the District's 2008 RACT SIP, and satisfy the District's requirement to establish RACT-level controls for this source category.⁵

⁵ Sanctions and FIP clocks still apply as they relate to deficiencies in other CTG source categories identified elsewhere in our partial disapproval of the District's 2008 RACT SIP (85 FR 77996).

III. Incorporation by Reference

In this rule, the EPA is proposing to include in a final EPA rule regulatory text that includes incorporation by reference. In accordance with requirements of 1 CFR 51.5, the EPA is proposing to incorporate by reference the SDAPCD rules described in Table 1 of this preamble. The EPA has made, and will continue to make, these materials available through https://www.regulations.gov and at the EPA Region IX Office (please contact the person identified in the FOR FURTHER INFORMATION CONTACT section of this preamble for more information).

IV. Statutory and Executive Order Reviews

Under the Clean Air Act, the Administrator is required to approve a SIP submission that complies with the provisions of the Act and applicable federal regulations. 42 U.S.C. 7410(k); 40 CFR 52.02(a). Thus, in reviewing SIP submissions, the EPA's role is to approve state choices, provided that they meet the criteria of the Clean Air Act. Accordingly, this proposed action merely proposes to approve state law as meeting federal requirements and does not impose additional requirements beyond those imposed by state law. For that reason, this proposed action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide the EPA with the discretionary authority to address disproportionate human health or environmental effects with practical, appropriate, and legally permissible methods under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Intergovernmental relations, Ozone, Reporting and recordkeeping requirements, Volatile organic compounds.

Authority: 42 U.S.C. 7401 et seq.

Dated: July 19, 2021.
Deborah Jordan,
Acting Regional Administrator, Region IX.

[FR Doc. 2021-16665 Filed 8-9-21; 8:45 am]

BILLING CODE 6560-50-P